DEPARTMENT OF COMMERCE

Census Bureau

Submission for OMB Review; Comment Request

DOC has submitted to the Office of Management and Budget (OMB) for clearance the following proposal for collection of information under the provisions of the Paperwork Reduction Act (44 U.S.C. chapter 35).

Agency: U.S. Census Bureau Department of Commerce.

Title: Annual Survey of Local Government Finances (School Systems).

Form Number(s): F-33, F-33-1, F-33-L1, F-33-L2, F-33-L3.

Agency Approval Number: 0607-0700.

Type of Request: Revision of a currently approved collection.

Burden: 3,737 hours.

Number of Respondents: 3,500.

Avg Hours Per Response: 1.1 hours average over all forms.

Needs and Uses: The Census Bureau collects education finance data as part of its Annual Survey of State and Local Governments. This survey is the only comprehensive source of public fiscal data collected on a nationwide scale using uniform definitions, concepts and procedures. The collection covers the revenues, expenditures, debt, and assets of all public school systems. This data collection has been coordinated with the National Center for Education Statistics (NCES). The NCES uses this collection to satisfy its need for school system level finance data.

Information on the finances of our public schools is vital to assessing their effectiveness. This data collection makes it possible to access a single database to obtain information on such things as per pupil expenditures and the percent of state, local, and federal funding for each school system. Recently, as exemplified by the establishment of the America 2000 education goals, there has been increased interest in improving the Nation's public schools. One result of this intensified interest has been a significant increase in the demand for school finance data.

In this request, six new “special processing” items have been added to the F-33 data collection form for state payments made on behalf of the school systems. These items will make it possible for expenditure data to be more accurately reported at the functional level. Additionally, we are adding two new data collection forms. Form F-33-L2 is a supplemental letter that we will send to the school systems whose state education agencies cannot provide indebtedness information. Form F-33-L3 is a supplemental letter that we will send to the school systems whose state education agencies cannot provide assets and indebtedness information. This letter combines the items requested on the forms F-33-L1 and F-33-L2.

Affected Public: State, local, or Tribal government.

Frequency: Annually.

Respondent's Obligation: Voluntary.

Legal Authority: Title 13 U.S.C., Sections 161 and 182.

OMB Desk Officer: Susan Schechter, (202) 395-5103.

Copies of the above information collection proposal can be obtained by calling or writing Linda Engelmeier, DOC Forms Clearance Officer, (202) 482-3272, Department of Commerce, room 6086, 14th and Constitution Avenue, NW, Washington, DC 20230 (or via the Internet at LEngelme@doc.gov).

Written comments and recommendations for the proposed information collection should be sent within 30 days of publication of this notice to Susan Schechter, OMB Desk Officer, room 10201, New Executive Office Building, Washington, DC 20503.

Dated: July 7, 2000.
Madeleine Clayton,
Management Analyst, Office of the Chief Information Officer.

[FR Doc. 00-17718 Filed 7-12-00; 8:45 am]

BILLING CODE 3510-07-P